DEPARTMENT OF ENERGY

[OE Docket No. EA-488]

Application To Export Electric Energy; Mercuria Commodities Canada Corporation

AGENCY: Office of Electricity, Department of Energy.

ACTION: Notice of application.

SUMMARY: Mercuria Commodities Canada Corporation (Applicant or MCCC) has applied for authorization to transmit electric energy from the United States to Canada pursuant to the Federal Power Act.

DATES: Comments, protests, or motions to intervene must be submitted on or before March 22, 2021.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On January 7, 2020, MCCC filed an application with DOE (Application or App.) to transmit electric energy from the United States to Canada for a term of five years. MCCC states that its principal place of business is in Houston, Texas and that it “is a direct, wholly-owned subsidiary of Mercuria Energy Group Holding S.A. (MEGHSA), a Swiss holding company.” App. at 1. MCCC represents that it does not “own, operate or control electric transmission or distribution facilities in the United States over which the export of wholesale electricity could have a reliability, fuel use, or system stability impact,” and that it is not “affiliated with any entity that owns, operates, or controls electric transmission or distribution facilities in the United States over which the export of wholesale electricity could have a reliability, fuel use, or system stability impact.” Id. at 3.

MCCC further states that it “will buy and sell wholesale electricity in the wholesale electric markets within the United States, and will export electricity transmitted across international transmission facilities to be utilized by Presidential permits issued pursuant to Executive Order 10485, as amended.” App. at 2. MCCC contends that its exports “will not impair or tend to impede the sufficiency of electricity supplies in the United States or the regional coordination of electric utility planning or operations.” Id. at 4.

MCCC states that its exports “will be purchased from other suppliers (i.e. generators, electric utilities, and other power marketers) voluntarily, and therefore will be surplus to the needs of the selling entities.” App. at 3-4.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning MCCC's application to export electric energy to Canada should be clearly marked with OE Docket No. EA-488. Additional copies are to be provided directly to Chloe Cromarty, 20 E Greenway Plaza, Suite 650, Houston, Texas 77046, ccromarty@mercuria.com; and Greg Johnston, 326 11th Avenue SW, Suite 600, Calgary, Alberta T2R0C5, Canada, gjohnston@mercuria.com.

A final decision will be made on the Application after the environmental impacts have been evaluated pursuant to DOE's National Environmental Policy Act Implementing Procedures (10 CFR part 1021) and after DOE determines that the proposed action will not have an adverse impact on the sufficiency of supply or reliability of the U.S. electric power supply system.

Copies of the Application will be made available, upon request, by accessing the program website at http://energy.gov/node/11845, or by emailing Matt Aronoff at matthew.aronoff@hq.doe.gov.

Signed in Washington, DC, on February 1, 2021.
Christopher Lawrence,
Management and Program Analyst, Energy Resilience Division, Office of Electricity.

[FR Doc. 2021-03401 Filed 2-18-21; 8:45 am]

BILLING CODE 6450-01-P